DEPARTMENT OF STATE

[Public Notice: 12330]

Notification of Meetings of the United States-Bahrain Subcommittee on Environmental Affairs and Joint Forum on Environmental Cooperation

ACTION: Notice of meetings and request for comments; invitation to public session.

SUMMARY: The U.S. Department of State and the Office of the United States Trade Representative (USTR) are providing notice that the United States and the Kingdom of Bahrain plan to hold meetings of the Subcommittee on Environmental Affairs (Subcommittee), established under the United States-Bahrain Free Trade Agreement (FTA), and the Joint Forum on Environmental Cooperation (Joint Forum), established under the United States-Bahrain Memorandum of Understanding on Environmental Cooperation (MOU), on February 21, 2024, in Manama, Bahrain. The purposes of the meetings of these two bodies, respectively, are to review implementation of the Environment Chapter (Chapter 16) of the FTA and to review and assess cooperative environmental activities undertaken under the MOU.

DATES: The joint public sessions of the Subcommittee and Joint Forum will be held on February 21, 2024, from 5:30 a.m. to 7:15 a.m. EST (1:30 p.m. to 3:15 p.m. AST) in Manama, Bahrain, with an option to join virtually or in-person. Please contact Merideth Manella and Tia Potskhverashvili for the location of this meeting in Manama, Bahrain, or to request a link to join virtually. Confirmations of attendance and comments or questions are requested in writing no later than February 16, 2024.

ADDRESSES: Written comments or questions should be submitted to both:

(1) Merideth Manella, U.S. Department of State, Bureau of Oceans and International Environmental and Scientific Affairs, Office of Environmental Quality, by email to ManellaM@state.gov with the subject line “United States-Bahrain FTA Subcommittee/MOU Joint Forum Meetings”; and

(2) Tia Potskhverashvili, Office of the United States Trade Representative, by email to tiapots@ustr.eop.gov with the subject line “United States-Bahrain FTA Subcommittee/MOU Joint Forum Meetings”.

In your email, please include your full name and organization.

If you have access to the internet, you can view and comment on this notice by going to: http://www.regulations.gov/#!home and searching for docket number DOS-2024-0004.

FOR FURTHER INFORMATION CONTACT: Merideth Manella, (202) 286-5271, ManellaM@state.gov or Tia Potskhverashvili, (202) 395-5414, tiapots@ustr.eop.gov.

SUPPLEMENTARY INFORMATION: The U.S. Department of State and USTR invite written comments or questions from the public to be submitted no later than February 16, 2024, regarding implementation of Chapter 16 and the MOU, and any topics that should be considered for discussion at the Subcommittee and Joint Forum meetings consistent with their respective purposes. When preparing comments, submitters are encouraged to refer to Chapter 16 of the FTA and/or the MOU, as relevant (available at https://www.state.gov/key-topics-office-of-environmental-quality-and-transboundary-issues/current-trade-agreements-with-environmental-chapters/#bahrain and https://ustr.gov/trade-agreements/free-trade-agreements/bahrain-fta). Instructions on how to submit comments are under the heading ADDRESSES.

Article 16.5 of the FTA provides for the establishment of a Subcommittee on Environmental Affairs to discuss matters related to the operation of Chapter 16. Article 16.5 further provides that, unless the Parties otherwise agree, meetings of the Subcommittee shall include a session in which members of the Subcommittee have an opportunity to meet with the public to discuss matters relating to the implementation of Chapter 16.

Section II of the MOU establishes a Joint Forum on Environmental Cooperation responsible for, among other things, establishing, reviewing, and assessing cooperative environmental activities under the MOU.

On February 21, 2024, the Subcommittee and Joint Forum will meet in a closed government-to-government session to (1) review implementation of Chapter 16 and (2) review activities under the 2022-2025 Plan of Action Under the United States-Bahrain Memorandum of Understanding on Environmental Cooperation Plan of Action.

All interested persons are invited to attend a joint public session on Chapter 16 implementation and environmental cooperation under the MOU, beginning at 5:30 a.m. EST (1:30 p.m. AST) on February 21, 2024. At the session, the Subcommittee and Joint Forum will welcome questions, input, and information about challenges and achievements in implementation of Chapter 16 and environmental cooperation under the MOU. If you would like to attend the public session either in-person, in Manama, Bahrain, or virtually, please notify Merideth Manella and Tia Potskhverashvili at the email addresses listed under the heading ADDRESSES.

Visit the Department of State website at www.state.gov and the USTR website at www.ustr.gov for more information.

Scott B. Ticknor,
Director, Office of Environmental Quality, U.S. Department of State.

[FR Doc. 2024-03027 Filed 2-13-24; 8:45 am]

BILLING CODE 4710-09-P